Title 3—

The President

Proclamation 8112 of February 28, 2007

Amending Proclamation 8031 of June 15, 2006, To Read, “Establishment of the Papahanaumokuakea Marine National Monument”

By the President of the United States of America

A Proclamation

WHEREAS Proclamation 8031 of June 15, 2006, established the Northwestern Hawaiian Islands Marine National Monument;

NOW, THEREFORE, I, GEORGE W. BUSH, President of the United States of America, by the authority vested in me by the Constitution and the laws of the United States, including section 2 of the Act of June 8, 1906 (34 Stat. 225, 16 U.S.C. 431), do amend Proclamation 8031 for the purpose of giving the monument a Native Hawaiian name and making the following conforming changes and corrections;

Section 1. The title of Proclamation 8031 is amended to read, “Establishment of the Papahanaumokuakea Marine National Monument”.

Sec. 2. The phrase Northwestern Hawaiian Islands Marine National Monument is amended to read Papahanaumokuakea Marine National Monument, wherever it appears in Proclamation 8031.

Sec. 3. Under Findings, Additional Findings for Native Hawaiian Practice Permits, 2(e) is amended to read: Any living monument resource harvested from the monument will be consumed or utilized in the monument.

Sec. 4. The title of the map of the Monument accompanying Proclamation 8031 is amended to read, “Papahanaumokuakea Marine National Monument” and the word “Sanctuary” in the map is deleted wherever it appears and the word “Monument” is inserted in lieu thereof.

[FR Doc. 07-1077

Filed 3-5-07; 8:58 am]

Billing code 3195-01-P